DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than October 6, 2014.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Information/Referral and Professional Training Surveys

(OMB No. 0915-xxxx)—[New]

Abstract: These surveys are designed to collect information from recipients of information/referral services and professional training provided by the following two HRSA-funded programs: (1) Traumatic Brain Injury (TBI) State Implementation Partnership Grants and (2) Protection and Advocacy for TBI Grants. Additionally, grant recipients administering these surveys will submit a summary report aggregating the responses from these two surveys.

The authority for this program is the Public Health Service Act, Title XII, Section 1252, as amended (42 U.S.C. 300d-52). Per the authorizing legislation, the intent of these programs is to improve access to rehabilitation and other services regarding traumatic brain injury. The HRSA State Implementation Partnership Grants and State Protection and Advocacy Grants support this charge by providing information to individuals with TBI and their families about TBI, and making referrals to local providers equipped to meet the unique needs of each survivor. Additionally, these grant programs train providers in various settings to identify and effectively serve individuals with TBI and their families.

Individuals with TBI present with a host of different symptoms, which exist with varying levels of severity. Comprehensive, appropriate care often requires a variety of services such as physical rehabilitation, speech rehabilitation, cognitive rehabilitation, special education accommodations, vocational skills coaching, and independent living skills training. These services are often located across many state/local agencies and providers. For this reason, individuals with TBI and their family members often have difficulty identifying local providers with the skills and expertise to deliver services that will promote recovery and maximize independence.

Need and Proposed Use of the Information: HRSA proposes that the data collection surveys be administered by grant recipients to individuals with TBI, their family members, and professional providers for two categories of activities—information/referral services and professional training. These surveys were developed to capture the following: (1) The effectiveness of information and referral services provided to individuals with TBI and their family members, and (2) the effectiveness of training about TBI for professionals who may encounter individuals with TBI in their work roles. In addition to providing uniform data across these grant programs, the data will help determine what efforts might improve outreach and provision of services for future projects. Grantees will report the data to HRSA in an annual summary report.

Likely Respondents: Individuals with TBI, their family members, and professional providers in various settings will be the likely respondents for these surveys. Recipients of both the State Implementation Partnership Grants and the Protection and Advocacy Grants programs will be the respondents for the summary report.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
INITIAL Survey for Individuals with TBI and/or their Family Members Receiving Information and Referral Services from Grant Recipients | 7850 | 1 | 7850 | 0.25 | 1963
FOLLOW-UP Survey for Individuals with TBI and/or their Family Members receiving Information and Referral Services from Grant Recipients | 3925 | 1 | 3925 | 0.25 | 981
INITIAL Survey for Participants in Training Sessions provided by Grant Recipients | 13370 | 1 | 13370 | 0.25 | 3343
FOLLOW-UP Survey for Participants in Training Sessions Provided by Grant Recipients | 6685 | 1 | 6685 | 0.25 | 1671
Summary Report from Grant Recipients | 77 | 1 | 77 | 16 | 1232
Total | 31,907 |  | 31,907 |  | 9190

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: July 28, 2014.
Jackie Painter,
Acting Director, Division of Policy and Information Coordination.

[FR Doc. 2014-18551 Filed 8-5-14; 8:45 am]

BILLING CODE 4165-15-P